FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 008493-025.

Title: Trans-Pacific American Flag Berth Operators Agreement.

Parties: American President Lines, Ltd., and A.P. Moller-Maersk A/S.

Filing Party: Howard A. Levy, Esq., 80 Wall Street, Suite 1117, New York, NY 10005-3602.

Synopsis: The amendment changes Maersk's d/b/a to Maersk Line.

Agreement No.: 010714-039.

Title: Trans-Atlantic American Flag Liner Operators Agreement.

Parties: A.P. Moller-Maersk A/S; American President Lines, Ltd.; American Roll-On Roll-Off Carrier, LLC; and CP Ships (USA) LLC.

Filing Party: Howard A. Levy, Esq., 80 Wall Street, Suite 1117, New York, NY 10005.

Synopsis: The amendment changes Maersk's d/b/a to Maersk Line and deletes Farrell Line Inc. and P&O Nedlloyd Limited as agreement members.

Agreement No.: 011407-010.

Title: Australia/United States ContainerLine Association.

Parties: Hamburg-Süd; Australia-New Zealand Direct Line; and CP Ships USA, LLC.

Filing Party: Wayne R. Rohde, Esq., Sher & Blackwell, LLP, 1850 M Street, NW., Suite 900, Washington, DC 20036.

Synopsis: The amendment deletes P&O Nedlloyd Limited as a party to the agreement.

Agreement No.: 011547-019.

Title: Eastern Mediterranean Discussion Agreement.

Parties: Farrell Lines, Inc.; COSCO Container Lines Co. Ltd.; China Shipping Container Lines Co., Ltd.; A.P. Moller-Maersk A/S; Mediterranean Shipping Company, S.A.; P&O Nedlloyd Limited; Turkon Container Transportation & Shipping, Inc.; and Zim Integrated Shipping Services, Ltd.

Filing Party: Wayne R. Rohde, Esq., Sher & Blackwell, 1850 M Street, NW., Suite 900, Washington, DC 20036.

Synopsis: The amendment deletes Hapag-Lloyd Container Linie GmbH as a party to the agreement and changes Maersk's d/b/a to Maersk Line.

Agreement No.: 011660-005.

Title: Administrative Housekeeping Agreement.

Parties: A.P. Moller-Maersk A/S; American President Lines, Ltd.; American Roll-On Roll-Off Carriers, LLC; and CP Ships (USA) LLC.

Filing Party: Howard A. Levy, Esq., 80 Wall Street, Suite 1117, New York, NY 10005.

Synopsis: The amendment changes Maersk's d/b/a to Maersk Line and deletes Farrell Line Inc. and P&O Nedlloyd Limited from the TAAFLO members list.

Agreement No.: 011733-017.

Title: Common Ocean Carrier Platform Agreement.

Parties: A.P. Moller-Maersk A/S; P&O Nedlloyd Limited; Hamburg-Süd; Mediterranean Shipping Company, S.A.; CMA-CGM, S.A.; Hapag Lloyd Container Linie GmbH; and United Arab Shipping Company (S.A.G.) as shareholder parties; and Alianca Navegacao e Logistica Ltda.; Safmarine Container Lines N.V.; Nippon Yusen Kaisha; CP Ships Limited; Tasman Orient Line C.V.; Mitsui O.S.K. Lines, Ltd.; CP Ships (USA) LLC; Kawasaki Kisen Kaisha, Ltd.; FESCO Ocean Management Ltd.; Senator Lines GmbH; Compania Sud Americana de Vapores, S.A.; Companhia Libra de Navegacao; and Norasia Container Lines Limited as non-shareholder parties.

Filing Party: Wayne R. Rohde, Esq., Sher & Blackwell LLP, 1850 M Street, NW., Suite 900, Washington, DC 20036.

Synopsis: The amendment adds MISC Berhad as a non-shareholder party to the agreement.

Agreement No.: 011940.

Title: CMA CGM/Maruba Cross Space Charter, Sailing, and Cooperative Working Agreement.

Parties: CMA CGM, S.A. and Maruba S.A.

Filing Party: Paul M. Keane, Esq., Cichanowicz, Callan, Keane, Vengrow & Textor, LLP, 61 Broadway, Suite 3000, New York, NY 10006-2802.

Synopsis: The agreement authorizes the parties to share vessel space in the trades between the U.S. West Coast, on the one hand, and the West Coasts of South and Central America, and China, Taiwan, and South Korea, on the other hand.

Agreement No.: 201143-007.

Title: West Coast MTO Agreement.

Parties: APM Terminals Pacific, Ltd.; California United Terminals, Inc.; Eagle Marine Services, Ltd.; International Transportation Service, Inc.; Long Beach Container Terminal, Inc.; Seaside Transportation Service, LLC; Trans Pacific Container Service Corporation; Total Terminals, LLC; West Basin Container Terminal, LLC; Yusen Terminals, Inc.; Pacific Maritime Services, L.L.C.; and SSA Terminal (Long Beach), LLC.

Filing Party: David F. Smith, Esq., Sher & Blackwell LLP, 1850 M Street, NW., Suite 900, Washington, DC 20036.

Synopsis: The amendment deletes Husky Terminals and Stevedoring, Inc. and Trans Bay Container Terminal, Inc. as parties to the agreement.

By order of the Federal Maritime Commission.
Dated: February 10, 2006.
Bryant L. VanBrakle,
Secretary.

[FR Doc. E6-2163 Filed 2-14-06; 8:45 am]

BILLING CODE 6730-01-P